DEPARTMENT OF ENERGY

Federal Energy Regulatory Commission

[Project No. 9648-018]

Town of Springfield, Vermont and Siemens Westinghouse Technical Services, Inc., One Hundred River Street, LLC; Notice of Application for Transfer of License, and Soliciting Comments and Motions To Intervene

On November 15, 2011 and supplemented on April 27, 2012, the Town of Springfield, Vermont and Siemens Westinghouse Technical Services, Inc. (transferors) and One Hundred River Street, LLC (transferee) filed an application to transfer the license for the Fellows Dam Project No. 9648, located on the Black River in Windsor County, Vermont.

Applicants seek Commission approval to transfer the license for the Fellows Dam Project from the transferors to the transferee.

Applicants' Contacts: Transferors: Mr. Robert J. Forguites, Town Manager, Town of Springfield, 96 Main Street, Springfield, VT 05156, (802) 885-2104. Transferee: Mr. Richard Genderson, Managing Member, One Hundred River Street, LLC, 300 Massachusetts Ave. NE., Washington, DC 20002.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-9648) in the docket number field to access the document. For assistance, call toll-free 1-866-208-3372.

Dated: May 16, 2012.
Kimberly D. Bose,
Secretary.

[FR Doc. 2012-12446 Filed 5-22-12; 8:45 am]

BILLING CODE 6717-01-P